DEPARTMENT OF COMMERCE

National Telecommunications and Information Administration

BroadbandUSA Webinar Series

AGENCY: National Telecommunications and Information Administration, U.S. Department of Commerce.

ACTION: Notice of Open Meetings; Monthly Webinars.

SUMMARY: The National Telecommunications and Information Administration (NTIA), as part of its BroadbandUSA program, will host a series of webinars on a monthly basis to engage the public and stakeholders with information to accelerate broadband access, improve digital inclusion, strengthen policies, and support local community priorities. The webinar series will provide ongoing source information on the range of topics and issues being addressed by BroadbandUSA, including best practices for improving broadband deployment, digital literacy, and e-government.

DATES: BroadbandUSA will hold the webinars from 2:00 p.m. to 3:00 p.m. Eastern Time on the third Wednesday of every month, beginning February 15, 2017, and continuing through September 20, 2017.

ADDRESSES: These are virtual meetings. NTIA will post the registration information on its BroadbandUSA Web site, http://www2.ntia.doc.gov/, under Events.

FOR FURTHER INFORMATION CONTACT: Lynn Chadwick, National Telecommunications and Information Administration, U.S. Department of Commerce, Room 4627, 1401 Constitution Avenue NW., Washington, DC 20230; telephone: (202) 482-8338; email: lchadwick@ntia.doc.gov. Please direct media inquiries to NTIA's Office of Public Affairs, (202) 482-7002; email press@ntia.doc.gov.

SUPPLEMENTARY INFORMATION: NTIA's BroadbandUSA program provides expert advice and field-proven tools for assessing broadband adoption, planning new infrastructure and engaging a wide range of partners in broadband projects. BroadbandUSA convenes workshops on a regular basis to bring stakeholders together to discuss ways to improve broadband policies, share best practices, and connect communities to other federal agencies and funding sources for the purpose of expanding broadband infrastructure and adoption throughout America's communities. Experts from NTIA's BroadbandUSA program are available to provide technical assistance and to connect communities with additional resources, such as best practices, guides and program models. NTIA's BroadbandUSA team is developing tools to support communities working to expand broadband access, adoption and use. These webinars are among the tools BroadbandUSA uses to provide broadband information to the public, broadband stakeholders, tribal, local, and state governments, and federal programs. Other tools include publications, workshops, meetings and co-hosted events with stakeholder organizations and agencies.

The public is invited to participate in these webinars. General questions and comments are welcome at any time via email to BroadbandUSA@ntia.doc.gov. The webinars are open to the public and press. Pre-registration is recommended. NTIA asks registrants to provide their first and last names, city, state, organization, job title, and email addresses for both registration purposes and to receive any updates on BroadbandUSA via email at BroadbandUSA@ntia.doc.gov. Information on webinar content and how to register for one or more webinars will available on NTIA's Web site at http://www2.ntia.doc.gov/WEBINARS.

Individuals requiring accommodations should review the PowerPoint slides, transcript and recording from the webinar posted at the BroadbandUSA Web site, http://www2.ntia.doc.gov/, within 7 days following the live webinar.

Dated: December 27, 2016.
Kathy D. Smith,
Chief Counsel, National Telecommunications and Information Administration.

[FR Doc. 2016-31717 Filed 12-29-16; 8:45 am]

BILLING CODE 3510-60-P